DEPARTMENT OF LABOR

Employment and Training Administration

[TA-W-75,151; TA-W-75,151A]

Navistar Truck Development and Technology Center; a Subsidiary of Navistar International Corporation Truck Division, 2911 Meyer Road, Including Leased Workers From Populous Group, Livernois Vehicle Development, ASG Renaissance and Alpha Personnel, Inc. Fort Wayne, IN; Navistar Truck Reliability Center, a Subsidiary of Navistar International Corporation, Truck Division, 3033 Wayne Trace, Including Leased Workers From Populous Group, Livernois Vehicle Development, ASG Renaissance, and Alpha Personnel, Inc. Fort Wayne, IN; Notice of Revised Determination on Reconsideration

On September 15, 2011, the Department of Labor (Department) issued a Notice of Affirmative Determination Regarding Application for Reconsideration to apply for Trade Adjustment Assistance (TAA) applicable to workers and former workers of Navistar International Truck Development and Technology Center, a Subsidiary of Navistar International Corporation, Truck Division, 2911 Meyer Road, Fort Wayne, Indiana (TA-W-75,151). The Department's Notice of Affirmative Determination was published in the Federal Register on September 23, 2011 (76 FR 59166). Workers are engaged in activities related to the supply of truck body engineering and design services.

During the reconsideration investigation, the Department received new information from Navistar International Corporation (Navistar).

The reconsideration investigation revealed that the workers of Navistar Truck Reliability Center, a Subsidiary of Navistar International Corporation, Truck Division, 3033 Wayne Trace, Fort Wayne, Indiana (TA-W-75,151A) supply support services to the Meyer Road location of Navistar, and that each location utilize leased workers from Populous Group, Livernois Vehicle Development, ASG Renaissance, and Alpha Rae Personnel, Inc.

Therefore, the Department determines that the subject worker group consists of workers and former workers of Navistar International Truck Development and Technology Center, a Subsidiary of Navistar International Corporation, Truck Division, 2911 Meyer Road, including leased workers from Populous Group, Livernois Vehicle Development, ASG Renaissance, and Alpha Rae Personnel, Inc., Fort Wayne, Indiana (Navistar, Meyer Road TA-W-75,151) and Navistar Truck Reliability Center, a Subsidiary of Navistar International Corporation, Truck Division, 3033 Wayne Trace, including leased workers from Populous Group, Livernois Vehicle Development, ASG Renaissance, and Alpha Rae Personnel, Inc., Fort Wayne, Indiana (Navistar, Wayne Trace 75,151A), who are/were engaged in employment related to the supply of truck body engineering and design services and/or support services.

Based on new information obtained during the reconsideration investigation, the Department determines that workers and former workers of Navistar, Meyer Road TA-W-75,151 and Navistar, Wayne Trace 75,151A have met the worker group certification criteria under Section 222(a) of the Trade Act, 19 U.S.C. 2272(a).

Criterion I has been met because a significant number or proportion of workers at Navistar, Meyer Road TA-W-75,151 and Navistar, Wayne Trace 75,151A have become totally or partially separated, or are threatened with such separation.

Criterion II has been met because there has been a shift in a portion of the supply of services by Navistar to a foreign country.

Criterion III has been met because the shift in services contributed importantly to the workers' separation, or threat of separation, at Navistar, Meyer Road TA-W-75,151 and Navistar, Wayne Trace 75,151A.

Conclusion

After careful review of the additional facts obtained on reconsideration, I determine that workers and former workers of Navistar, Meyer Road TA-W-75,151 and Navistar, Wayne Trace 75,151A, who are engaged in employment related to the supply of truck body engineering and design services or support services, meet the worker group certification criteria under Section 222(a) of the Act, 19 U.S.C. 2272(a). In accordance with Section 223 of the Act, 19 U.S.C. 2273, I make the following certification:

All workers of Navistar International Truck Development and Technology Center, a Subsidiary of Navistar International Corporation, Truck Division, 2911 Meyer Road, including leased workers from Populous Group, Livernois Vehicle Development, ASG Renaissance, and Alpha Rae Personnel, Inc., Fort Wayne, Indiana (TA-W-75,151) and Navistar Truck Reliability Center, a Subsidiary of Navistar International Corporation, Truck Division, 3033 Wayne Trace, including leased workers from Populous Group, Livernois Vehicle Development, ASG Renaissance, and Alpha Rae Personnel, Inc., Fort Wayne, Indiana (TA-W-75,151A), who became totally or partially separated from employment on or after January 30, 2010, through two years from the date of this revised certification, and all workers in the group threatened with total or partial separation from employment on date of certification through two years from the date of certification, are eligible to apply for adjustment assistance under Chapter 2 of Title II of the Trade Act of 1974, as amended.

Signed in Washington, DC, this 20th day of October, 2011.
Del Min Amy Chen,
Certifying Officer, Office of Trade Adjustment Assistance.

[FR Doc. 2011-28444 Filed 11-2-11; 8:45 am]

BILLING CODE 4510-FN-P